DEPARTMENT OF TRANSPORTATION

Federal Motor Carrier Safety Administration

[FMCSA Docket No. FMCSA-2005-22056]

Public Meeting: North American Cargo Securement Public Forum

AGENCY: Federal Motor Carrier Safety Administration (FMCSA), DOT.

ACTION: Notice of public meeting.

SUMMARY: FMCSA announces a public meeting concerning the implementation of the North American Standard for Protection Against Shifting or Falling Cargo. FMCSA's cargo securement rules are based on the North American Cargo Securement Standard Model Regulations (Model Regulations), reflecting the results of a multi-year comprehensive research program to evaluate what were then current U.S. and Canadian cargo securement regulations; the motor carrier industry's best practices; and recommendations presented during a series of public meetings involving U.S. and Canadian industry experts, Federal, State and Provincial enforcement officials, and other interested parties. Canada's Council of Ministers Responsible for Transportation and Highway Safety approved a National Safety Code Standard for cargo securement which is also based on the Model Regulations. This meeting is to discuss the process for ensuring the consistent interpretation of the harmonized cargo securement standards by FMCSA and the Canadian Provinces, and interpretation issues raised by enforcement agencies and motor carriers in the U.S. and Canada.

DATES: The meeting will be held on Wednesday, March 26, 2008. The meeting will begin at 8 a.m. and end at 5 p.m.

ADDRESSES: The meeting will be held at the Colorado Convention Center, 700 14th Street, Denver, Colorado.

FOR FURTHER INFORMATION CONTACT: Mr. Mike Huntley, Chief of the Vehicle and Roadside Operations Division (MC-PSV), (202) 366-9209, Federal Motor Carrier Safety Administration, 1200 New Jersey Avenue, SE., Washington, DC 20590.

INFORMATION ON SERVICES FOR INDIVIDUALS WITH DISABILITIES: For information on facilities or services for individuals with disabilities, or to request special assistance at the meeting, contact: Mr. Mike Huntley, (202) 366-9209, Michael.Huntley@dot.gov.

SUPPLEMENTARY INFORMATION:

Background

On September 27, 2002 (67 FR 61212), FMCSA published a final rule revising its regulations concerning protection against shifting and falling cargo for commercial motor vehicles operated in interstate commerce. Motor carriers were given until January 1, 2004, to comply with the new regulations.

On September 23, 2004, Canada's Council of Ministers Responsible for Transportation and Highway Safety approved a National Safety Code Standard for cargo securement which is also based on the Model Regulations. Full implementation of the new cargo securement requirements in Canada began in the summer of 2005.

On June 22, 2006 (71 FR 35819), FMCSA amended its cargo securement rules in response to several petitions for reconsideration. The amendments were effective on July 24, 2006.

Maintaining Uniformity Between U.S. and Canadian Cargo Securement Standards

FMCSA is committed to continuing to work with U.S. and Canadian industry experts, Federal, State and Provincial enforcement officials, and other interested parties to maintain, to the greatest extent practicable, harmonization of U.S. and Canadian cargo securement standards. A major part of this effort includes uniformity in interpreting the meaning of the requirements adopted by the U.S. and Canada. While there are some differences between certain provisions of the regulations adopted by FMCSA and Canada's National Safety Code Standard 10, most of the contents of the model regulations have been adopted, or will soon be adopted, by almost all jurisdictions in the U.S. and Canada. To ensure consistency in the interpretation and enforcement of the requirements, FMCSA is working with its partners in Canada to share information about requests for interpretation, and to exchange technical information that would be helpful to the regulatory agencies in developing responses to such requests. FMCSA is also working with its partners in Canada to ensure that interpretations are made available to all interested parties in an efficient and timely manner.

This meeting is intended to provide all stakeholders, including motor carrier safety agencies and industry, with an opportunity to discuss issues that have arisen concerning implementation of the cargo securement regulations in both countries, and to promote safe, harmonized requirements for the securement of cargo on or in commercial motor vehicles throughout North America. Participation in the North American Cargo Securement Forum is unrestricted, and open to all stakeholders and interested persons, including motor carrier safety enforcement agencies, safety advocacy groups, and industry.

Meeting Information: The meeting will be held on Wednesday, March 26, 2008, at the Colorado Convention Center, 700 14th Street, Denver, Colorado. The meeting will begin at 8 a.m. and end at 5 p.m. The meeting is being held in connection with the Commercial Vehicle Safety Alliance's (CVSA) 2008 Workshop. Attendance for the North American Cargo Securement Public Forum is free of charge and open to all interested parties. However, anyone interested in attending the sessions and committee meetings of the CVSA's 2008 Workshop must register with the CVSA and pay the appropriate registration fee. For further information about registration for other sessions or meetings of the CVSA's 2008 Workshop, please contact the CVSA at (202) 775-1623.

Issued on: March 11, 2008.
Charles A. Horan III,
Acting Associate Administrator for Policy and Program Development.

[FR Doc. E8-5191 Filed 3-13-08; 8:45 am]

BILLING CODE 4910-EX-P